DEPARTMENT OF COMMERCE

Foreign-Trade Zones Board

[S-161-2017]

Approval of Expanded Subzone Status; Orgill, Inc., Post Falls and Coeur d'Alene, Idaho

On October 13, 2017, the Executive Secretary of the Foreign-Trade Zones (FTZ) Board docketed an application submitted by the Southwest Idaho Manufacturers' Alliance, grantee of FTZ 280, requesting expanded subzone status subject to the existing activation limit of FTZ 280, on behalf of Orgill, Inc., in Coeur d'Alene, Idaho.

The application was processed in accordance with the FTZ Act and Regulations, including notice in the Federal Register inviting public comment (82 FR 48481, October 18, 2017). The FTZ staff examiner reviewed the application and determined that it meets the criteria for approval. Pursuant to the authority delegated to the FTZ Board Executive Secretary (15 CFR Sec. 400.36(f)), the application to expand Subzone 280B was approved on December 4, 2017, subject to the FTZ Act and the Board's regulations, including Section 400.13, and further subject to FTZ 280's 2,000-acre activation limit.

Dated: December 5, 2017.
Andrew McGilvray,
Executive Secretary.

[FR Doc. 2017-26850 Filed 12-12-17; 8:45 am]

BILLING CODE 3510-DS-P